DEPARTMENT OF TRANSPORTATION

Federal Aviation Administration

14 CFR Part 39

[Docket No. FAA-2008-0431; Directorate Identifier 2008-SW-08-AD; Amendment 39-15483; AD 2008-09-03]

RIN 2120-AA64

Airworthiness Directives; Agusta S.p.A. Model A109A, A109A II, and A109C Helicopters

AGENCY: Federal Aviation Administration (FAA), Department of Transportation (DOT).

ACTION: Final rule; request for comments.

SUMMARY: We are adopting a new airworthiness directive (AD) for the specified Agusta S.p.A. (Agusta) model helicopters. This AD results from mandatory continuing airworthiness information (MCAI) originated by an aviation authority to identify and correct an unsafe condition on an aviation product. The European Aviation Safety Agency (EASA), the Technical Agent for Italy, with which we have a bilateral agreement, states in the MCAI:

It has been reported, on an A109A helicopter, a case of failure of the grooved clamp fixing the engine exhaust duct, with the consequent loss of the duct.

The duct has hit the main and tail rotor producing the loss of the tail rotor and the emergency landing of the helicopter.

The fracture of the grooved clamp was due to excessive loads and corrosion around the attaching rivets. This AD requires actions that are intended to address this unsafe condition.

DATES: This AD becomes effective May 13, 2008.

The Director of the Federal Register approved the incorporation by reference of Agusta Bollettino Tecnico No. 109-123, dated November 16, 2006, as of May 13, 2008.

We must receive comments on this AD by June 27, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Eric Haight, Aviation Safety Engineer, FAA, Rotorcraft Directorate, Regulations and Guidance Group, Fort Worth, Texas 76193-0111, telephone (817) 222-5204, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

EASA, which is the Technical Agent for the aviation authority of Italy, has issued AD No. 2007-0041, dated February 21, 2007 (referred to after this as “the MCAI”), to correct an unsafe condition for this Italian-certificated product. The MCAI states:

It has been reported, on an A109A helicopter, a case of failure of the grooved clamp fixing the engine exhaust duct, with the consequent loss of the duct.

The duct has hit the main and tail rotor producing the loss of the tail rotor and the emergency landing of the helicopter.

The fracture of the grooved clamp was due to excessive loads and corrosion around the attaching rivets. Even though the failed part was on a Model A109A, the Models A109A II and A109C use the same parts. You may obtain further information by examining the MCAI and service information.

Relevant Service Information

Agusta has issued Bollettino Tecnico No. 109-123, dated November 16, 2006. The actions described in the MCAI are intended to correct the same unsafe condition as that identified in the service information.

FAA's Determination and Requirements of This AD

These products have been approved by the aviation authority of Italy and are approved for operation in the United States. Pursuant to our bilateral agreement with this State of Design Authority, we have been notified of the unsafe condition described in the MCAI and service information. We are issuing this AD because we evaluated all pertinent information and determined the unsafe condition exists and is likely to exist or develop on other products of these same type designs.

Differences Between the AD and the MCAI

We have reviewed the MCAI and related service information and, in general, agree with their substance. However, this AD differs from the MCAI as follows:

(1) We refer to flight hours as hours time-in-service (TIS).

(2) We are requiring the initial inspection to be done within the next 20 hours TIS rather than using the date and operating hours specified in the MCAI.

(3) We are not requiring a recurring inspection of the grooved clamps, but we intend to propose to mandate the 300 hour time-in-service or yearly recurring inspection of the grooved clamps through our non-emergency rulemaking procedures.

These differences are highlighted in the “Differences Between the FAA AD and the MCAI” section of this AD.

Costs of Compliance

We estimate that this AD will affect about 59 products of U.S. registry. We also estimate that it will take about 4 work-hours per helicopter to inspect the grooved clamps that attach the engine exhaust ducts. The average labor rate is $80 per work-hour. Required parts cost is negligible. Based on these figures, we estimate the cost of the AD on U.S. operators to be $18,880.

FAA's Determination of the Effective Date

An unsafe condition exists that requires the immediate adoption of this AD. The FAA has found that the risk to the flying public justifies waiving notice and comment prior to adoption of this rule because we are requiring an inspection within 20 hours time-in-service (TIS), a short time frame. The short inspection time is necessary because of the failure of a grooved clamp attaching the external left side engine exhaust duct and the consequent loss of the exhaust duct that occurred, resulted in an emergency landing. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0431; Directorate Identifier 2008-SW-08-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-09-03 Agusta S.p.A.: Amendment 39-15483. Docket No. FAA-2008-0431; Directorate Identifier 2008-SW-08-AD.

Effective Date

(a) This airworthiness directive (AD) becomes effective on May 13, 2008.

Applicability

(b) This AD applies to Model A109A, A109A II, and A109C helicopters, with grooved clamps, part number 4606AC, that attach the engine exhaust ducts, installed, certificated in any category.

Reason

(c) The mandatory continued airworthiness information (MCAI) states:

It has been reported, on an A109A helicopter, a case of failure of the grooved clamp fixing the engine exhaust duct, with the consequent loss of the duct.

The duct has hit the main and tail rotor producing the loss of the tail rotor and the emergency landing of the helicopter.

The fracture of the grooved clamp was due to excessive loads and corrosion around the attaching rivets.

Actions and Compliance

(d) Required as indicated, unless already done, do the following:

(1) Within the next 20 hours time-in-service (TIS), remove, clean, and using a 10X or higher magnifying glass, inspect the four grooved clamps that attach the engine exhaust ducts as shown in Figure 1 and by following Steps 3 through 4.2. of the Compliance Instructions of Agusta Bollettino Tecnico No. 109-123, dated November 16, 2006.

(2) If you find a crack or corrosion, before further flight, replace the unairworthy grooved clamp with an airworthy grooved clamp.

Differences Between the FAA AD and the MCAI

(e) This AD differs from the MCAI as follows:

(1) We refer to flight hours as hours TIS.

(2) We are requiring the initial inspection to be done within the next 20 hours TIS instead of using the date and operating time specified in the MCAI.

(3) We are not requiring a recurring inspection of the grooved clamps, but we intend to propose to mandate the 300 hour time-in-service or yearly recurring inspection of the grooved clamps through our non-emergency rulemaking procedures.

(f) Air Transport Association of America (ATA) Code 7800: Engine Exhaust.

Other FAA AD Provisions

(g) The following provisions also apply to this AD:

(1) Alternative Methods of Compliance (AMOCs): The Manager, Safety Management Group, Rotorcraft Directorate, FAA, has the authority to approve AMOCs for this AD, if requested using the procedures found in 14 CFR 39.19. Send information to ATTN: Eric Haight, Aviation Safety Engineer, Regulations and Guidance Group, Fort Worth, Texas 76193-0111, telephone (817) 222-5204, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(h) EASA Mandatory Continuing Airworthiness Information (MCAI) AD No. 2007-0041, dated February 21, 2007, contains related information.

Material Incorporated by Reference

(i) The Director of the Federal Register approved the incorporation by reference of Agusta Bollettino Tecnico No. 109-123, dated November 16, 2006, under 5 U.S.C. 552(a) and 1 CFR part 51.

(1) For service information identified in this AD, contact Agusta, 21017 Cascina Costa di Samarate (VA) Italy, Via Giovanni Agusta 520, telephone 39 (0331) 229111, fax 39 (0331) 229605-222595.

(2) You may review copies of the service information at the FAA, Office of the Regional Counsel, Southwest Region, 2601 Meacham Blvd., Room 663, Fort Worth, Texas or at the National Archives and Records Administration (NARA). For information on the availability of this material at NARA, call (202) 741-6030, or go to: http://www.archives.gov/federal-register/cfr/ibr-locations.html.

Issued in Fort Worth, Texas, on April 4, 2008.
Mark R. Schilling,
Acting Manager, Rotorcraft Directorate, Aircraft Certification Service.

[FR Doc. E8-8640 Filed 4-25-08; 8:45 am]

BILLING CODE 4910-13-P